DEPARTMENT OF COMMERCE

National Oceanic and Atmospheric Administration

[RTID 0648-XA011]

Pacific Fishery Management Council; Public Meeting

AGENCY: National Marine Fisheries Service (NMFS), National Oceanic and Atmospheric Administration (NOAA), Commerce.

ACTION: Notice of public meeting.

SUMMARY: The Pacific Fishery Management Council (Pacific Council) will hold a methodology review meeting to evaluate and review fishery independent visual survey methodologies, using remotely operate vehicles (ROVs), for nearshore groundfish species off the states of Oregon and California. The meeting is open to the public.

DATES: The meeting will be held Tuesday, February 4 through Thursday, February 6, 2020. The meeting will begin at 8:30 a.m., Pacific Standard Time, each day and will continue until 5 p.m., or until business for the day has been completed.

ADDRESSES: The Pacific Council methodology review meeting will be held in the Conference Room (Room 188) of the NMFS Southwest Fisheries Science Center, Santa Cruz Laboratory, 110 McAllister Way, Santa Cruz, CA 95060; contact and telephone: Dr. John Field, (831) 420-3907. Official government issued identification (e.g., state issued identification card, federal identification card, etc.) will be required in order to enter the building.

FOR FURTHER INFORMATION CONTACT: Mr. Todd Phillips, Staff Officer, Pacific Fishery Management Council; telephone: (503) 820-2426.

SUPPLEMENTARY INFORMATION: The purpose of the Pacific Council methodology review meeting is to evaluate and review fishery independent visual survey methodologies, using ROVs, for nearshore groundfish species off the states of Oregon and California. West Coast nearshore groundfish stock assessments have identified the current lack of fishery-independent data sources as a research and data need. Both Oregon and California have conducted ROV surveys of rockfish in nearshore areas, focusing on rocky reef habitat, and, in California, on areas inside and outside of Marine Protected Areas.

The goals and objectives specific to the review of the new ROV survey methodologies are to: (1) Evaluate the sampling design used in recent (2010-19) ROV surveys conducted by the states of Oregon and California; (2) evaluate proposed methods to develop indices or estimates of abundance for these ROV surveys, including using habitat/substrate type and Marine Protected Area designation as covariates; (3) evaluate proposed methods to estimate size/age compositions of observed individuals of each species; and (4) identify potential impediments to developing independent indices or estimates of abundance using these ROV surveys and incorporating them into stock assessments.

This methodology review will likely provide the basis for future ROV surveys and the development of indices or estimates of abundance for those areas surveyed in Oregon and California, as well as the expansion of such methods to other areas within those states and/or within Washington State.

No management actions will be decided by the Pacific Council methodology review meeting participants. The Pacific Council methodology review meeting participants' role will be development of recommendations and reports for consideration by the Pacific Council's Scientific and Statistical Committee and the Pacific Council at their June meeting in San Diego, CA.

Although nonemergency issues not contained in the meeting agenda may be discussed, those issues may not be the subject of formal action during these meetings. Action will be restricted to those issues specifically listed in this notice and any issues arising after publication of this notice that require emergency action under Section 305(c) of the Magnuson-Stevens Fishery Conservation and Management Act, provided the public has been notified of the intent of the Pacific Council meeting participants to take final action to address the emergency.

Special Accommodations

These meetings are physically accessible to people with disabilities. Requests for sign language interpretation or other auxiliary aids should be directed to Mr. Kris Kleinschmidt (kris.kleinschmidt@noaa.gov, (503) 820-2412) at least 10 days prior to the meeting date.

Dated: January 14, 2020.
Tracey L. Thompson,
Acting Deputy Director, Office of Sustainable Fisheries, National Marine Fisheries Service.

[FR Doc. 2020-00766 Filed 1-16-20; 8:45 am]

BILLING CODE 3510-22-P